NUCLEAR REGULATORY COMMISSION

[Docket Nos. 50-317, 50-318, 72-008, 72-078, 50-461, 72-1046, 50-10, 50-237, 50-249, 72-037, 50-333, 72-012, 50-373, 50-374, 72-070, 50-352, 50-353, 72-065, 50-220, 50-410, 72-1036, 50-277, 50-278, 72-029, 50-254, 50-265, 72-053, 50-413, 50-414, 72-45, 50-261, 72-3, 72-60, 50-269, 50-270, 50-287, 72-04, 72-40, 50-266, 50-301, 72-005, 50-443, 72-63, 50-315, 50-316, 72-072, 50-354, 50-272, 50-311, 72-48, 50-282, 50-306, 72-010, 50-263, 50-416, 72-50, 50-424, 50-425, 52-025, 52-026, 72-1039, 50-321, 50-366, 72-36, 50-348, 50-364 and 72-42; NRC-2024-0047]

Issuance of Multiple Exemptions Regarding Security Notifications, Reports, and Recording Keeping

AGENCY: Nuclear Regulatory Commission.

ACTION: Exemptions; issuance.

SUMMARY: The U.S. Nuclear Regulatory Commission (NRC) is issuing a single notice to announce the issuance of 22 exemptions in response to requests from eight licensees in response to a change to NRC's regulations published in the Federal Register on March 14, 2023.

DATES: During the period from January 1, 2024, to January 31, 2024, the NRC granted 22 exemptions in response to requests submitted by eight licensees from October 13, 2023, to January 24, 2024.

ADDRESSES: Please refer to Docket ID NRC-2024-0047 when contacting the NRC about the availability of information regarding this document. You may obtain publicly available information related to this document using any of the following methods:

• Federal Rulemaking Website: Go to https://www.regulations.gov and search for Docket ID NRC-2024-0047. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Ed Miller, Office of Nuclear Reactor Regulation, U.S. Nuclear Regulatory Commission, Washington, DC 20555-0001; telephone: 301-415-2481, email: Ed.Miller@nrc.gov.

SUPPLEMENTARY INFORMATION:

I. Introduction

During the period from January 1, 2024, to January 31, 2024, the NRC granted 22 exemptions in response to requests submitted by the following licensees: Constellation Energy Generation, LLC; Duke Energy; NextEra Energy Point Beach, LLC and NextEra Energy Seabrook, LLC; Indiana Michigan Power Company; PSEG Nuclear LLC; Northern States Power Company, a Minesota Corporation, doing business as Xcel Energy; Entergy Operations, Inc.; and Southern Nuclear Operating Company.

These exemptions temporarily allow the licensees to deviate from certain requirements of part 73 of title 10 of the Code of Federal Regulations (10 CFR), “Physical Protection of Plants and Materials,” subpart T, “Security Notifications, Reports, and Recordkeeping.” In support of its exemption requests, the licensees agreed to effect site-specific administrative controls that maintain the approach to complying with 10 CFR part 73 in effect prior to the NRC's issuance of a final rule, “Enhanced Weapons, Firearms Background Checks, and Security Event Notifications,” which was published in the Federal Register on March 14, 2023, and became effective on April 13, 2023 (88 FR 15864).

II. Availability of Documents

The tables in this notice provide transparency regarding the number and type of exemptions the NRC has issued and provides the licensee name, facility name, docket number, document description, document date, and ADAMS accession number for each exemption issued. Additional details on each exemption issued, including the exemption request submitted by the respective licensee and the NRC's decision, are provided in each exemption approval listed in the following tables. For additional directions on accessing information in ADAMS, see the ADDRESSES section of this document.

Document description | ADAMS accession No. | Document date
Constellation Energy Generation, LLC; Calvert Cliffs Nuclear Power Plant, Units 1 and 2 Docket Nos. 50-317, 50-318, 72-008, and 72-078
Calvert Cliffs Nuclear Power Plant, Units 1 and 2, Request for Exemption from Enhanced Weapons, Firearms Background Checks, and Security Event Notifications Implementation | ML23289A120 | October 16, 2023.
Calvert Cliffs Nuclear Power Plant, Units 1 and 2—Supplemental Information Letter for Part 73 Exemption Request—Responses to Request for Confirmatory Information | ML23317A103 | November 10, 2023.
Calvert Cliffs Nuclear Power Plant, Units 1 and 2—Exemption from Select Requirements of 10 CFR Part 73 (EPID L-2023-LLE-0033 [Security Notifications, Reports, and Recordkeeping and Suspicious Activity Reporting]) | ML24003A887 | January 19, 2024.
Constellation Energy Generation, LLC; Clinton Power Station, Unit No. 1 Docket Nos. 50-461 and 72-1046
Clinton Power Station, Unit 1—Request for Exemption from Enhanced Weapons, Firearms Background Checks, and Security Event Notifications Implementation | ML23321A137 | November 17, 2023.
Clinton Power Station, Unit No. 1—Exemption from Select Requirements of 10 CFR Part 73 (EPID L-2023-LLE-0041 [Security Notifications, Reports, and Recordkeeping and Suspicious Activity Reporting]) | ML24004A079 | January 18, 2024.
Constellation Energy Generation, LLC; Dresden Nuclear Power Station, Units 1, 2, and 3 Docket Nos. 50-10, 50-237, 50-249, and 72-037
Dresden Nuclear Power Station, Unit 1, 2, and 3—Request for Exemption from Enhanced Weapons, Firearms Background Checks, and Security Event Notifications Implementation | ML23289A100 | October 16, 2023.
Dresden Nuclear Power Station, Unit 1, 2 and 3—Supplemental Information Letter for Part 73 Exemption Request—Responses to Request for Confirmatory Information | ML23317A104 | November 10, 2023.
Dresden Nuclear Power Station, Units 1, 2, and 3—Supplement—Dresden Security Rule Exemption Request—ISFSI Docket No. Reference (EPID L-2023-LLE-0031) (Email) | ML23328A009 | November 22, 2023.
Dresden Nuclear Power Station, Units 1, 2, And 3—Exemption from Select Requirements of 10 CFR Part 73 (EPID L-2023-LLE-0031 [Security Notifications, Reports, and Recordkeeping and Suspicious Activity Reporting]) | ML23354A281 | January 4, 2024
Constellation Energy Generation, LLC; James A. FitzPatrick Nuclear Power Plant Docket Nos. 50-333 and 72-012
James A. FitzPatrick Nuclear Power Plant and Independent Spent Fuel Storage Installation—Request for Exemption from Enhanced Weapons, Firearms Background Checks, and Security Event Notifications Implementation | ML23326A008 | November 22, 2023.
James A. FitzPatrick Nuclear Power Plant—Supplemental Response to Part 73 Exemption Request—Withdrawal of Request for Exemption from 10 CFR 73, Subpart B, Preemption Authority Requirements | ML23341A127 | December 7, 2023.
James A FitzPatrick Nuclear Power Plant—Exemption from Select Requirements of 10 CFR Part 73 (EPID L-2023-LLE-0058 [Security Notifications, Reports, And Recordkeeping and Suspicious Activity Reporting]) | ML23356A083 | January 4, 2024.
Constellation Energy Generation, LLC; LaSalle County Station, Units 1 and 2 Docket Nos. 50-373, 50-374, and 72-070
LaSalle County Station, Units 1 and 2—Request for Exemption from Enhanced Weapons, Firearms Background Checks, and Security Event Notifications Implementation | ML23286A042 | October 13, 2023.
LaSalle County Station, Units 1 and 2—Supplemental Information Letter for Part 73 Exemption Request—Responses to Request for Confirmatory Information | ML23317A106 | November 10, 2023.
[LaSalle County Station, Units 1 and 2]—Supplement—Security Rule Exemption Request—ISFSI Docket No. Reference (L-2023-LLE-0028) (Email) | ML23328A013 | November 22, 2023.
LaSalle County Station, Units 1 and 2—Exemption from Select Requirements of 10 CFR Part 73 (EPID L-2023-LLE-0028 [Security Notifications, Reports, and Recordkeeping and Suspicious Activity Reporting)] | ML23354A290 | January 5, 2024.
Constellation Energy Generation, LLC; Limerick Generating Station, Units 1 and 2 Docket Nos. 50-352, 50-353, and 72-065
Limerick Generating Station, Units 1 and 2, Request for Exemption from Enhanced Weapons, Firearms Background Checks, and Security Event Notifications Implementation | ML23286A035 | October 13, 2023.
Limerick Generating Station, Units 1 and 2—Supplemental Information Letter for Part 73 Exemption Request—Responses to Request for Confirmatory Information | ML23317A107 | November 10, 2023.
[Limerick Generating Station, Units 1 and 2] Supplement—Limerick Security Rule Exemption Request—ISFSI Docket No. Reference (EPID L-2023-LLE-0026) (Email) | ML23331A006 | November 22, 2023.
Limerick Generating Station, Units Nos. 1 and 2—Exemption from Select Requirements of 10 CFR Part 73 (EPID L-2023-LLE-0026 [Security Notifications, Reports, and Recordkeeping and Suspicious Activity Reporting]) | ML24004A034 | January 17, 2024.
Constellation Energy Generation, LLC; Nine Mile Point Nuclear Station, Units 1 and 2 Docket Nos. 50-220, 50-410, and 72-1036
Nine Mile Point [Nuclear Station], Unit Nos. 1 and 2—Request for Exemption from Enhanced Weapons, Firearms Background Checks, and Security Event Notifications Implementation | ML23326A009 | November 22, 2023.
Nine Mile Point Nuclear Station, Units 1 and 2—Supplemental Response to Part 73 Exemption Request—Withdrawal of Request for Exemption from 10 CFR 73, Subpart B, Preemption Authority Requirements | ML23341A131 | December 7, 2023.
Nine Mile Point [Nuclear Station], Units 1 and 2—Exemption from Select Requirements of 10 CFR Part 73 (EPID L-2023-LLE-0059 [Security Notifications, Reports, and Recordkeeping and Suspicious Activity Reporting]) | ML23354A001 | January 4, 2024.
Constellation Energy Generation, LLC; Peach Bottom Atomic Power Station, Units 2 and 3 Docket Nos. 50-277, 50-278, and 72-029
Peach Bottom Atomic Power Station, Unit[s] 2 and 3, Request for Exemption from Enhanced Weapons, Firearms Background Checks, and Security Event Notifications Implementation | ML23289A121 | October 16, 2023.
Peach Bottom Atomic Power Station, Units 2 and 3—Supplemental Information Letter for Part 73 Exemption Request—Responses to Request for Confirmatory Information | ML23317A108 | November 10, 2023.
[Peach Bottom Atomic Power Station, Units 2 and 3]—Supplement—Peach Bottom Security Rule Exemption Request—ISFSI Docket No. Reference (EPID L-2023-LLE-0032) (Email) | ML23331A911 | November 22, 2023.
Peach Bottom Atomic Power Station, Units 2 and 3—Supplement—Peach Bottom Security Rule Exemption Request—ISFSI Docket No. Reference (EPID L-2023-LLE-0032) (Updated) (Email) | ML24002A713 | December 29, 2023.
Peach Bottom Atomic Power Station, Units 2 and 3—Exemption from Select Requirements of 10 CFR [Part] 73 [Security Notifications, Reports, and Recordkeeping and Suspicious Activity Reporting] (EPID L-2023-LLE 0032) | ML23354A192 | January 5, 2024.
Constellation Energy Generation, LLC; Quad Cities Nuclear Power Station, Units 1 and 2 Docket Nos. 50-254, 50-265, and 72-053
Quad Cities Nuclear Power Station, Units 1 & 2—Request for Exemption from Enhanced Weapons, Firearms Background Checks, and Security Event Notifications Implementation | ML23321A141 | November 17, 2023.
Quad Cities Nuclear Power Station, Unit No. 1 And 2—Exemption from Select Requirements of 10 CFR Part 73 (EPID L-2023-LLE-0042 [Security Notifications, Reports, and Recordkeeping and Suspicious Activity Reporting]) | ML24004A005 | January 17, 2024.
Duke Energy; Catawba Nuclear Station, Units 1 and 2 Docket Nos. 50-413, 50-414, and 72-45
[Catawba Nuclear Station, Units 1 and 2]—RA-23-0284 Request for Exemption from Enhanced Weapons, Firearms Background Checks, and Security Event Notifications Implementation | ML23320A283 | November 16, 2023.
[Catawba Nuclear Station, Units 1 and 2]—Supplement to Request for Exemption from Enhanced Weapons, Firearms Background Checks, and Security Event Notifications Implementation | ML23338A344 | December 4, 2023.
Catawba Nuclear Station, Units 1 and 2, Re: Exemption from Select Requirements of 10 CFR Part 73—Security Notifications, Reports, and Recordkeeping and Suspicious Activity Reporting (EPID L-2023-LLE-0050) | ML24005A251 | January 26, 2024.
Duke Energy; H.B. Robinson Steam Electric Plant, Unit No. 2 Docket Nos. 50-261, 72-3, and 72-60
[H.B. Robinson Steam Electric Plant, Unit No. 2]- RA-23-0284 Request for Exemption from Enhanced Weapons, Firearms Background Checks, and Security Event Notifications Implementation | ML23320A283 | November 16, 2023.
[H.B. Robinson Steam Electric Plant, Unit No. 2]—Supplement to Request for Exemption from Enhanced Weapons, Firearms Background Checks, and Security Event Notifications Implementation | ML23338A344 | December 4, 2023.
H.B. Robinson Steam Electric Plant, Unit No. 2—Exemption from Select Requirements of 10 CFR Part 73 (EPID L 2023 LLE 0047 [Security Notifications, Reports, and Recordkeeping and Suspicious Activity Reporting]) | ML24009A243 | January 25, 2024.
Duke Energy; Oconee Nuclear Station, Units 1, 2, and 3 Docket Nos. 50-269, 50-270, 50-287, 72-04, and 72-40
[Oconee Nuclear Station, Units 1, 2, and 3]—RA-23-0284 Request for Exemption from Enhanced Weapons, Firearms Background Checks, and Security Event Notifications Implementation | ML23320A283 | November 16, 2023.
[Oconee Nuclear Station, Units 1, 2, and 3]—Supplement to Request for Exemption from Enhanced Weapons, Firearms Background Checks, and Security Event Notifications Implementation | ML23338A344 | December 4, 2023.
Oconee Nuclear Station, Units 1, 2, and 3—Re: Exemption from Select Requirements of 10 CFR part 73 [Security Notifications, Reports, and Recordkeeping and Suspicious Activity Reporting] (EPID L-2023-LLE-0049) | ML24005A249 | January 24, 2024.
NextEra Energy Point Beach, LLC; Point Beach Nuclear Plant, Units 1 and 2 Docket Nos. 50-266, 50-301, and 72-005
Point Beach Nuclear Plant, Units 1 and 2—Part [7]3 exemption Request Regarding Enhanced Weapons, Firearms Background Checks and Security Event Notifications Final Rule | ML23320A265 | November 16, 2023.
[Point Beach Nuclear Plant], Units 1 and 2—Supplement to Exemption Request Regarding Enhanced Weapons, Firearms Background Checks, and Security Event Notifications Final Rule | ML23334A073 | November 29, 2023.
Point Beach Nuclear Plant, Units 1 and 2—Exemption from Select Requirements of 10 CFR Part 73 (EPID L-2023-LLE-0040 [Security Notifications, Reports, and Recordkeeping and Suspicious Activity Reporting]) | ML24005A324 | January 24, 2024.
NextEra Energy Seabrook, LLC; Seabrook Station, Unit No. 1 Docket Nos. 50-443 and 72-63
[Seabrook Station, Unit No. 1]—Part 73 Exemption Request Regarding Enhanced Weapons, Firearms, Background Checks, and Security Event Notifications Final Rule | ML23320A269 | November 16, 2023.
[Seabrook Station, Unit No.1]—Supplement to Seabrook Exemption Request Regarding Enhanced Weapons, Firearms Background Checks, and Security Event Notifications Final Rule | ML23334A074 | November 29, 2023.
Seabrook Station, Unit No. 1—Exemption from Select Requirements of 10 CFR Part 73 (EPID L 2023 LLE-0043 [Security Notifications, Reports, and Recordkeeping and Suspicious Activity Reporting]) | ML24009A115 | January 29, 2024.
Indiana Michigan Power Company; Donald C. Cook Nuclear Plant, Unit Nos. 1 and 2 Docket Nos. 50-315, 50-316, and 72-072
Donald C. Cook Nuclear Plant, Unit 1 and Unit 2—Schedular Exemption for Enhanced Weapons, Firearms, Background Checks, and Security Event Notifications Implementation | ML23320A233 | November 16,2023.
Donald C. Cook Nuclear Plant, Units 1 and 2—Security Rule Exemption Request—ISFSI Docket No. Reference (Email) | ML23361A102 | December 21, 2023.
Donald C. Cook Nuclear Plant Unit Nos. 1 and 2—Exemption from Select Requirements of 10 CFR Part 73 (EPID L-2023-LLE-0039 [Security Notifications, Reports, and Recordkeeping and Suspicious Activity Reporting]) | ML24004A158 | January 19, 2024.
PSEG Nuclear LLC; Salem Nuclear Generating Station, Unit Nos. 1 and 2, and Hope Creek Generating Station Docket Nos. 50-354, 50-272, 50-311, and 72-48
Salem Nuclear Generating Station, Units 1 and 2, [and] Hope Creek Generating Station—Request for Exemption from Enhanced Weapons, Firearms Background Checks, and Security Event Notifications Implementation | ML23324A306 (Package) | November 17, 2023.
Salem Nuclear Generating Station, Units 1 and 2, and Hope Creek Generating Station—Exemption from Select Requirements Of 10 CFR Part 73 (EPID L-2023-LLE-0045 [Security Notifications, Reports, and Recordkeeping and Suspicious Activity Reporting]) | ML24009A102 | January 26, 2024.
Northern States Power Company, a Minesota Corporation (NSPM), doing business as Xcel Energy; Prairie Island Nuclear Generating Plant, Units 1 and 2 Docket Nos. 50-282, 50-306, and 72-010
[Prairie Island Nuclear Generating Plant, Units 1 and 2]—Request for Exemption from Enhanced Weapons, Firearms Background Checks, and Security Event Notifications Implementation | ML23319A318 | November 15, 2023.
[Prairie Island Nuclear Generating Plant, Units 1 and 2]—Supplement to Request for Exemption from Enhanced Weapons, Firearms Background Checks, and Security Event Notifications Implementation | ML24024A072 | January 24, 2024.
Prairie Island Nuclear Generating Plant, Units 1 and 2—Exemption from Select Requirements Of 10 CFR Part 73 [Security Notifications, Reports, And Recordkeeping and Suspicious Activity Reporting] (EPID L-2023-LLE-0056) | ML23356A123 | January 29, 2024.
Northern States Power Company, a Minesota Corporation (NSPM), doing business as Xcel Energy; Monticello Nuclear Generating Plant, Unit 1 Docket No. 50-263
[Monticello Nuclear Generating Plant]- Request for Exemption from Enhanced Weapons, Firearms Background Checks, and Security Event Notifications Implementation | ML23319A318 | November 15, 2023.
[Monticello Nuclear Generating Plant]—Supplement to Request for Exemption from Enhanced Weapons, Firearms Background Checks, and Security Event Notifications Implementation | ML24024A072 | January 24, 2024.
Monticello Nuclear Generating Plant—Exemption from Select Requirements of 10 CFR Part 73 (EPID L-2023-LLE-0055 [Security Notifications, Reports, and Recordkeeping and Suspicious Activity Reporting]) | ML24025A936 | January 31, 2024.
Entergy Operations, Inc.; Grand Gulf Nuclear Station, Unit 1 Docket Nos. 50-416 and 72-50
Grand Gulf Nuclear Station, Unit 1—Request for Exemption from Enhanced Weapons, Firearms Background Checks, and Security Event Notifications Implementation | ML23325A142 | November 21, 2023.
[Grand Gulf Nuclear Station, Unit 1—] Supplement to Request for Exemption from Enhanced Weapons, Firearms Background Checks, and Security Event Notifications Implementation | ML23333A136 | November 29, 2023.
Grand Gulf Nuclear Station, Unit 1—Exemption from Select Requirements of 10 CFR Part 73 (EPID L-2023-LLE-0051 [Security Notifications, Reports, and Recordkeeping and Suspicious Activity Reporting]) | ML24012A142 | January 31, 2024.
Southern Nuclear Operating Company; Vogtle Electric Generating Plant, Units 1, 2, 3, and 4 Docket Nos. 50-424, 50-425, 52-025, 52-026 and 72-1039
Vogtle Electric Generating Plant, Units 1, 2, 3, and 4—Request for Exemption from Security Event Notification Implementation | ML23333A855 | November 29, 2023.
[Vogtle Electric Generating Plant,] Units 1, 2, 3, and 4—Exemption from Select Requirements of 10 CFR [part] 73 [Security Notifications, Reports and Recordkeeping and Suspicious Activity Reporting] (EPID L-2023-LLE-0067) | ML24010A071 | January 31, 2024.
Southern Nuclear Operating Company; Edwin I. Hatch Nuclear Plant, Units 1 and 2 Docket Nos. 50-321, 50-366 and 72-36
Edwin I. Hatch Nuclear Plant—Request for Exemption from Security Event Notification Implementation | ML23333A861 | November 29, 2023.
Edwin I. Hatch Nuclear Plant—Exemption from Select Requirements of 10 CFR Part 73 [Security Notifications, Reports, and Recordkeeping and Suspicious Activity Reporting] (EPID L-2023-LLE-0068) | ML24012A065 | January 30, 2024.
Southern Nuclear Operating Company; Joseph M. Farley Nuclear Plant, Units 1 and 2 50-348, 50-364 and 72-42
Joseph M. Farley Nuclear Plant—Request for Exemption from Security Event Notification Implementation | ML23333A847 | November 29, 2023.
Joseph M. Farley Nuclear Plant—Exemption from Select Requirements Of 10 CFR Part 73—Security Notifications, Reports, And Recordkeeping And Suspicious Activity Reporting (EPID L-2023-LLE-0066) | ML24010A003 | January 30, 2024.

For the Nuclear Regulatory Commission.
Dated: February 28, 2024.
Jeffrey A. Whited,
Chief, Plant Licensing Branch 3, Division of Operating Reactor Licensing, Office of Nuclear Reactor Regulation.

[FR Doc. 2024-04546 Filed 3-4-24; 8:45 am]

BILLING CODE 7590-01-P